FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 17, 2013.

A. Federal Reserve Bank of Chicago (Colette A. Fried, Assistant Vice President) 230 South LaSalle Street, Chicago, Illinois 60690-1414:

1. Jay D. Bergman, Joliet, Illinois, to acquire voting shares of Community Holdings Corp., Palos Hills, Illinois; and thereby indirectly acquire voting shares of FirstSecure Bank and Trust Company, Palos Hill, IL.

B. Federal Reserve Bank of Minneapolis (Jacqueline G. King, Community Affairs Officer) 90 Hennepin Avenue, Minneapolis, Minnesota 55480-0291:

1. Roderick J. Heneman, Warroad, Minnesota; to retain voting shares of Warroad Bancshares, Inc., and thereby indirectly retain voting shares of Security State Bank of Warroad, both in Warroad, Minnesota.

C. Federal Reserve Bank of Kansas City (Dennis Denney, Assistant Vice President) 1 Memorial Drive, Kansas City, Missouri 64198-0001:

1. Christopher S. Caley, Silver Creek, Nebraska; to retain voting shares of Clark Bancshares, Inc., and thereby indirectly retain voting shares of Bank of Clarks, both in Clarks, Nebraska.

2. Glory Burns, Fort Collins, Colorado, Robin Isham, Templeton, California, Andrea Voss, Chadron, Nebraska, Julie Jennings, Lone Tree, Colorado, and R. Will Isham, Gordon, Nebraska, in their individual capacities and as fiduciaries of the following trusts: E. Joy Isham Irrevocable Trust, and the RWI Marital Deduction Testamentary Trust, both of Gordon, Nebraska, all as members of the Isham Family Group, to retain shares of Isham Management Company, and therby retain shares of The First National Bank of Gordon, both of Gordon, Nebraska.

Board of Governors of the Federal Reserve System, September 27, 2013.
Michael J. Lewandowski,
Associate Secretary of the Board.

[FR Doc. 2013-24101 Filed 10-2-13; 8:45 am]

BILLING CODE 6210-01-P